DEPARTMENT OF TRANSPORTATION

Federal Aviation Administration

14 CFR Part 97

[Docket No. 30964; Amdt. No. 3596]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 11, 2014. The compliance date for each SIAP, associated Takeoff Minimums, and ODP is specified in the amendatory provisions.

The incorporation by reference of certain publications listed in the regulations is approved by the Director of the Federal Register as of July 11, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on June 6, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
24-Jul-14 | FL | Okeechobee | Okeechobee County | 4/0003 | 05/22/14 | RNAV (GPS) RWY 23, Amdt 2.
24-Jul-14 | CO | Holyoke | Holyoke | 4/0052 | 05/29/14 | RNAV (GPS) RWY 14, Orig-C.
24-Jul-14 | CO | Holyoke | Holyoke | 4/0053 | 05/29/14 | RNAV (GPS) RWY 32, Orig-B.
24-Jul-14 | FL | Live Oak | Suwannee County | 4/0056 | 06/02/14 | RNAV (GPS) RWY 25, Orig-A.
24-Jul-14 | CT | Oxford | Waterbury-Oxford | 4/0238 | 05/28/14 | ILS OR LOC RWY 36, Amdt 14.
24-Jul-14 | CT | Oxford | Waterbury-Oxford | 4/0243 | 05/28/14 | RNAV (GPS) RWY 36, Amdt 2.
24-Jul-14 | AK | Gustavus | Gustavus | 4/0332 | 05/20/14 | VOR/DME RWY 29, Amdt 2A.
24-Jul-14 | AK | Gustavus | Gustavus | 4/0333 | 05/20/14 | RNAV (GPS) RWY 29, Amdt 2B.
24-Jul-14 | AK | Kaltag | Kaltag | 4/0474 | 06/03/14 | RNAV (GPS) RWY 3, Orig-B.
24-Jul-14 | AK | Kaltag | Kaltag | 4/0481 | 06/03/14 | RNAV (GPS) RWY 21, Amdt 1A.
24-Jul-14 | WA | Everett | Snohomish County (Paine Fld) | 4/0594 | 05/29/14 | ILS OR LOC/DME Z RWY 16R, Orig.
24-Jul-14 | CA | Davis | University | 4/0868 | 05/19/14 | RNAV (GPS) RWY 17, Orig-A.
24-Jul-14 | MT | Helena | Helena Rgnl | 4/0900 | 05/19/14 | VOR/DME B, Amdt 7
24-Jul-14. | CO | Buena Vista | Central Colorado Rgnl | 4/1128 | 06/03/14 | RNAV (GPS) RWY 33, Orig.
24-Jul-14 | FL | Apalachicola | Apalachicola Regional | 4/1190 | 05/20/14 | RNAV (GPS) RWY 36, Orig.
24-Jul-14 | FL | Apalachicola | Apalachicola Regional | 4/1191 | 05/20/14 | RNAV (GPS) RWY 24, Amdt 1.
24-Jul-14 | FL | Apalachicola | Apalachicola Regional | 4/1192 | 05/20/14 | RNAV (GPS) RWY 6, Amdt 1.
24-Jul-14 | FL | Apalachicola | Apalachicola Regional | 4/1193 | 05/20/14 | NDB RWY 32, Amdt 2.
24-Jul-14 | FL | Apalachicola | Apalachicola Regional | 4/1194 | 05/20/14 | NDB RWY 14, Amdt 2.
24-Jul-14 | FL | Apalachicola | Apalachicola Regional | 4/1195 | 05/20/14 | RNAV (GPS) RWY 32, Amdt 2.
24-Jul-14 | FL | Apalachicola | Apalachicola Regional | 4/1196 | 05/20/14 | Takeoff Minimums and Obstacle DP, Amdt 1.
24-Jul-14 | FL | Apalachicola | Apalachicola Regional | 4/1197 | 05/20/14 | RNAV (GPS) RWY 14, Amdt 2.
24-Jul-14 | FL | Apalachicola | Apalachicola Regional | 4/1198 | 05/20/14 | RNAV (GPS) RWY 18, Orig
24-Jul-14. | CA | Sacramento | Sacramento Executive | 4/1368 | 05/19/14 | VOR RWY 2, Amdt 10B.
24-Jul-14 | CA | Fresno | Fresno Yosemite Intl | 4/1388 | 05/30/14 | RNAV (GPS) RWY 11R, Amdt 2.
24-Jul-14 | CA | Fresno | Fresno Yosemite Intl | 4/1389 | 05/30/14 | ILS RWY 29R (CAT II & III), Amdt 38.
24-Jul-14 | CA | Fresno | Fresno Yosemite Intl | 4/1390 | 05/30/14 | RNAV (GPS) RWY 11L, Amdt 1.
24-Jul-14 | CA | Fresno | Fresno Yosemite Intl | 4/1392 | 05/30/14 | VOR/DME OR TACAN RWY 11L, Amdt 2.
24-Jul-14 | CA | Fresno | Fresno Yosemite Intl | 4/1404 | 05/30/14 | VOR/DME OR TACAN RWY 29R, Amdt 2.
24-Jul-14 | CA | Fresno | Fresno Yosemite Intl | 4/1405 | 05/30/14 | ILS RWY 29R (SA CAT I), Amdt 38.
24-Jul-14 | CA | Fresno | Fresno Yosemite Intl | 4/1407 | 05/30/14 | RNAV (GPS) RWY 29L, Amdt 2.
24-Jul-14 | CA | Fresno | Fresno Yosemite Intl | 4/1408 | 05/30/14 | RNAV (GPS) RWY 29R, Amdt 1.
24-Jul-14 | GA | Greensboro | Greene County Rgnl | 4/1423 | 06/04/14 | RNAV (GPS) RWY 7, Amdt 1B.
24-Jul-14 | TN | Memphis | Memphis Intl | 4/1437 | 05/30/14 | RNAV (RNP) Y RWY 18C, Orig-C.
24-Jul-14 | TN | Memphis | Memphis Intl | 4/1438 | 05/30/14 | RNAV (GPS) RWY 27, Amdt 2A.
24-Jul-14 | TN | Memphis | Memphis Intl | 4/1439 | 05/30/14 | ILS OR LOC RWY 27,Amdt 4A.
24-Jul-14 | GA | Greensboro | Greene County Rgnl | 4/1443 | 06/04/14 | VOR/DME B, Amdt 2B.
24-Jul-14 | CO | Montrose | Montrose Rgnl | 4/1533 | 06/03/14 | VOR/DME RWY 13, Amdt 9A.
24-Jul-14 | CO | Montrose | Montrose Rgnl | 4/1651 | 06/03/14 | RNAV (GPS) Z RWY 17, Orig-A.
24-Jul-14 | CO | Montrose | Montrose Rgnl | 4/1690 | 06/03/14 | RNAV (GPS) RWY 13, Orig-A.
24-Jul-14 | MO | Kansas City | Charles B. Wheeler Downtown | 4/1931 | 05/30/14 | Takeoff Minimums and Obstacle DP, Amdt 3A.
24-Jul-14 | KY | Louisville | Bowman Field | 4/2042 | 06/04/14 | RNAV (GPS) RWY 24, Amdt 2.
24-Jul-14 | CA | Burbank | Bob Hope | 4/2184 | 05/28/14 | GPS A, Orig-A.
24-Jul-14 | CA | Burbank | Bob Hope | 4/2189 | 05/28/14 | ILS OR LOC Z RWY 8, Amdt 37.
24-Jul-14 | CA | Burbank | Bob Hope | 4/2190 | 05/28/14 | RNAV (RNP) Z RWY 8, Amdt 1.
24-Jul-14 | CA | Burbank | Bob Hope | 4/2191 | 05/28/14 | LOC Y RWY 8, Amdt 4.
24-Jul-14 | CA | Burbank | Bob Hope | 4/2192 | 05/28/14 | VOR RWY 8, Amdt 11A.
24-Jul-14 | CO | Montrose | Montrose Rgnl | 4/2373 | 06/03/14 | RNAV (GPS) Y RWY 17, Orig-A.
24-Jul-14 | CO | Montrose | Montrose Rgnl | 4/2376 | 06/03/14 | RNAV (GPS) RWY 35, Orig-A.
24-Jul-14 | AK | Nuiqsut | Nuiqsut | 4/2457 | 06/03/14 | RNAV (GPS) RWY 5, Amdt 1.
24-Jul-14 | AK | Nuiqsut | Nuiqsut | 4/2458 | 06/03/14 | RNAV (GPS) RWY 23, Amdt 1A.
24-Jul-14 | AK | Toksook Bay | Toksook Bay | 4/2460 | 06/03/14 | RNAV (GPS) RWY 34, Amdt 3.
24-Jul-14 | AK | Talkeetna | Talkeetna | 4/2467 | 06/02/14 | NDB RWY 36, Amdt 3.
24-Jul-14 | FL | Immokalee | Immokalee Rgnl | 4/2485 | 05/28/14 | VOR RWY 18, Amdt 6A.
24-Jul-14 | FL | Immokalee | Immokalee Rgnl | 4/2488 | 05/28/14 | RNAV (GPS) RWY 18, Orig-A.
24-Jul-14 | AK | White Mountain | White Mountain | 4/2648 | 06/02/14 | RNAV (GPS) RWY 33, Orig.
24-Jul-14 | AK | White Mountain | White Mountain | 4/2649 | 06/02/14 | RNAV (GPS) RWY 15, Orig.
24-Jul-14 | SC | Aiken | Aiken Muni | 4/2735 | 06/04/14 | ILS OR LOC/DME RWY 7, Orig-A.
24-Jul-14 | MS | Yazoo City | Yazoo County | 4/2744 | 06/02/14 | RNAV (GPS) RWY 17, Orig.
24-Jul-14 | MS | Yazoo City | Yazoo County | 4/2745 | 06/02/14 | RNAV (GPS) RWY 35, Orig.
24-Jul-14 | OH | Piqua | Piqua Airport- Hartzell Field | 4/2747 | 05/22/14 | VOR A, Amdt 13.
24-Jul-14 | OH | Piqua | Piqua Airport- Hartzell Field | 4/2748 | 05/22/14 | VOR RWY 26, Amdt 6A.
24-Jul-14 | OH | Piqua | Piqua Airport- Hartzell Field | 4/2749 | 05/22/14 | RNAV (GPS) RWY 26, Orig-A.
24-Jul-14 | OH | Piqua | Piqua Airport- Hartzell Field | 4/2752 | 05/22/14 | RNAV (GPS) RWY 8, Orig-A.
24-Jul-14 | CA | Crescent City | Jack Mc Namara Field | 4/2773 | 05/20/14 | ILS OR LOC/DME RWY 11, Amdt 8A.
24-Jul-14 | CA | Crescent City | Jack Mc Namara Field | 4/2777 | 05/20/14 | VOR/DME RWY 35, Amdt 11.
24-Jul-14 | CA | Crescent City | Jack Mc Namara Field | 4/2783 | 05/20/14 | VOR/DME RWY 11, Amdt 13.
24-Jul-14 | CA | Crescent City | Jack Mc Namara Field | 4/2784 | 05/20/14 | RNAV (GPS) RWY 11, Amdt 1.
24-Jul-14 | CA | Crescent City | Jack Mc Namara Field | 4/2785 | 05/20/14 | VOR RWY 11, Amdt 11.
24-Jul-14 | CA | Crescent City | Jack Mc Namara Field | 4/2786 | 05/20/14 | RNAV (GPS) RWY 35, Orig.
24-Jul-14 | FL | Pensacola | Pensacola International | 4/2824 | 06/04/14 | RNAV (GPS) RWY 8, Amdt 2A.
24-Jul-14 | FL | Pensacola | Pensacola International | 4/2831 | 06/04/14 | RNAV (GPS) RWY 35, Amdt 2A.
24-Jul-14 | FL | Pensacola | Pensacola International | 4/2832 | 06/04/14 | NDB RWY 35, Amdt 17A.
24-Jul-14 | FL | Pensacola | Pensacola International | 4/2833 | 06/04/14 | VOR RWY 8, Amdt 4A.
24-Jul-14 | FL | Pensacola | Pensacola International | 4/2854 | 06/04/14 | RNAV (GPS) RWY 26, Amdt 2A.
24-Jul-14 | FL | Pensacola | Pensacola International | 4/2855 | 06/04/14 | RNAV (GPS) RWY 17, Amdt 2B.
24-Jul-14 | FL | Pensacola | Pensacola International | 4/2856 | 06/04/14 | ILS OR LOC RWY 17, Amdt 14A.
24-Jul-14 | WA | Friday Harbor | Friday Harbor | 4/2968 | 05/29/14 | RNAV (GPS) RWY 34, Amdt 2.
24-Jul-14 | AK | Middleton Island | Middleton Island | 4/3158 | 05/28/14 | VOR/DME RWY 20, Amdt 6A.
24-Jul-14 | AK | Middleton Island | Middleton Island | 4/3164 | 05/28/14 | RNAV (GPS) RWY 20, Amdt 1A.
24-Jul-14 | AK | Middleton Island | Middleton Island | 4/3172 | 05/28/14 | VOR RWY 2, Amdt 3A.
24-Jul-14 | AK | Middleton Island | Middleton Island | 4/3176 | 05/28/14 | RNAV (GPS) RWY 2, Amdt 1A.
24-Jul-14 | ID | Burley | Burley Muni | 4/3248 | 05/19/14 | VOR/DME B, Amdt 4B.
24-Jul-14 | ID | Burley | Burley Muni | 4/3249 | 05/19/14 | VOR A, Amdt 4B.
24-Jul-14 | ID | Burley | Burley Muni | 4/3250 | 05/19/14 | RNAV (GPS) RWY 20, Orig-A.
24-Jul-14 | NC | Elizabeth City | Elizabeth City CG Air Station/Rgnl | 4/3261 | 05/30/14 | RNAV (GPS) RWY 1, Orig-A.
24-Jul-14 | AK | Fort Yukon | Fort Yukon | 4/3352 | 06/02/14 | RNAV (GPS) RWY 22, Amdt 1A.
24-Jul-14 | AK | Fort Yukon | Fort Yukon | 4/3353 | 06/02/14 | VOR/DME OR TACAN RWY 22, Amdt 3.
24-Jul-14 | AK | Fort Yukon | Fort Yukon | 4/3360 | 06/02/14 | RNAV (GPS) RWY 4, Amdt 1A.
24-Jul-14 | CO | Fort Morgan | Fort Morgan Muni | 4/3378 | 05/20/14 | RNAV (GPS) RWY 14, Orig-A.
24-Jul-14 | AZ | Show Low | Show Low Rgnl | 4/3385 | 06/02/14 | RNAV (GPS) RWY 24, Amdt 2A.
24-Jul-14 | CO | Fort Morgan | Fort Morgan Muni | 4/3386 | 05/20/14 | RNAV (GPS) RWY 32, Orig.
24-Jul-14 | KY | Tompkinsville | Tompkinsville-Monroe County | 4/3408 | 05/28/14 | RNAV (GPS) RWY 22, Amdt 1.
24-Jul-14 | KY | Williamsburg | Williamsburg-Whitley County | 4/3521 | 05/28/14 | RNAV (GPS) RWY 20, Amdt 1.
24-Jul-14 | KY | Williamsburg | Williamsburg-Whitley County | 4/3522 | 05/28/14 | LOC/DME RWY 20, Orig.
24-Jul-14 | KY | Williamsburg | Williamsburg-Whitley County | 4/3523 | 05/28/14 | VOR/DME RWY 20, Orig-A.
24-Jul-14 | AK | Homer | Homer | 4/3540 | 05/29/14 | RNAV (GPS) Z RWY 22, Amdt 1A.
24-Jul-14 | AK | Homer | Homer | 4/3541 | 05/29/14 | RNAV (GPS) Z RWY 4, Amdt 1A.
24-Jul-14 | AK | Homer | Homer | 4/3542 | 05/29/14 | RNAV (GPS) Y RWY 4, Amdt 1A.
24-Jul-14 | AK | Homer | Homer | 4/3543 | 05/29/14 | LOC/DME RWY 4, Amdt 10.
24-Jul-14 | AK | Homer | Homer | 4/3544 | 05/29/14 | LOC/DME BC RWY 22, Amdt 5B.
24-Jul-14 | AK | Homer | Homer | 4/3545 | 05/29/14 | RNAV (GPS) Y RWY 22, Amdt 1A.
24-Jul-14 | AK | Northway | Northway | 4/3562 | 06/02/14 | RNAV (GPS) RWY 23, Amdt 1B.
24-Jul-14 | NJ | Newark | Newark Liberty Intl | 4/3576 | 05/28/14 | ILS OR LOC RWY 22L, Amdt 13A.
24-Jul-14 | FL | Umatilla | Umatilla Muni | 4/3577 | 05/22/14 | RNAV (GPS) RWY 19, Orig.
24-Jul-14 | FL | Umatilla | Umatilla Muni | 4/3578 | 05/22/14 | RNAV (GPS) RWY 1, Orig.
24-Jul-14 | NJ | Newark | Newark Liberty Intl | 4/3579 | 05/28/14 | RNAV (GPS) Y RWY 4R, Amdt 1D.
24-Jul-14 | NJ | Newark | Newark Liberty Intl | 4/3580 | 05/28/14 | ILS RWY 22L (CAT II & III), Amdt 13A.
24-Jul-14 | NJ | Newark | Newark Liberty Intl | 4/3582 | 05/28/14 | RNAV (RNP) Y RWY 29, Amdt 1A.
24-Jul-14 | NJ | Newark | Newark Liberty Intl | 4/3587 | 05/28/14 | ILS RWY 22L (SA CAT I), Amdt 13A.
24-Jul-14 | MO | Branson | M. Graham Clark Downtown | 4/3676 | 05/19/14 | RNAV (GPS) RWY 30, Orig-A.
24-Jul-14 | MO | Branson | M. Graham Clark Downtown | 4/3677 | 05/19/14 | RNAV (GPS) RWY 12, Orig-A.
24-Jul-14 | GA | Griffin | Griffin-Spalding County | 4/3743 | 05/28/14 | RNAV (GPS) RWY 14, Orig-A.
24-Jul-14 | GA | Griffin | Griffin-Spalding County | 4/3746 | 05/28/14 | RNAV (GPS) RWY 32, Orig.
24-Jul-14 | AK | Palmer | Palmer Muni | 4/3791 | 06/02/14 | RNAV (GPS) RWY 9, Amdt 1.
24-Jul-14 | TX | Granbury | Granbury Rgnl | 4/3862 | 05/30/14 | RNAV (GPS) RWY 14, Orig.
24-Jul-14 | TX | Granbury | Granbury Rgnl | 4/3863 | 05/30/14 | VOR/DME RWY 14, Amdt 1.
24-Jul-14 | TX | Granbury | Granbury Rgnl | 4/3864 | 05/30/14 | VOR/DME A, Orig-B.
24-Jul-14 | FL | Leesburg | Leesburg Intl | 4/3939 | 06/02/14 | RNAV (GPS) RWY 13, Amdt 2A.
24-Jul-14 | AK | Chevak | Chevak | 4/4078 | 06/04/14 | RNAV (GPS) RWY 2, Orig-B.
24-Jul-14 | KY | Louisville | Bowman Field | 4/4192 | 05/28/14 | RNAV (GPS) RWY 33, Orig.
24-Jul-14 | KY | Louisville | Bowman Field | 4/4194 | 05/28/14 | NDB RWY 33, Amdt 16.
24-Jul-14 | KY | Louisville | Bowman Field | 4/4195 | 05/28/14 | VOR RWY 24, Amdt 8.
24-Jul-14 | MS | Booneville/Baldwyn | Booneville/Baldwyn | 4/4221 | 06/02/14 | RNAV (GPS) RWY 15, Amdt 1.
24-Jul-14 | MS | Booneville/Baldwyn | Booneville/Baldwyn | 4/4227 | 06/02/14 | RNAV (GPS) RWY 33, Amdt 1.
24-Jul-14 | CA | Red Bluff | Red Bluff Muni | 4/4576 | 06/02/14 | RNAV (GPS) RWY 15, Amdt 1.
24-Jul-14 | WY | Pinedale | Ralph Wenz Field | 4/4577 | 06/02/14 | RNAV (GPS) RWY 29, Amdt 2.
24-Jul-14 | WY | Pinedale | Ralph Wenz Field | 4/4601 | 06/02/14 | RNAV (GPS) RWY 11, Amdt 2.
24-Jul-14 | CA | Red Bluff | Red Bluff Muni | 4/4602 | 06/02/14 | VOR/DME RWY 15, Amdt 8.
24-Jul-14 | CO | Hayden | Yampa Valley | 4/4603 | 05/29/14 | RNAV (GPS) RWY 28, Amdt 2A.
24-Jul-14 | GA | Reidsville | Swinton Smith Fld At Reidsville Muni | 4/4657 | 05/28/14 | RNAV (GPS) RWY 11, Amdt 1.
24-Jul-14 | GA | Reidsville | Swinton Smith Fld At Reidsville Muni | 4/4659 | 05/28/14 | NDB RWY 11, Amdt 8.
24-Jul-14 | AK | Yakutat | Yakutat | 4/4661 | 05/20/14 | RNAV (GPS) RWY 29, Amdt 4A.
24-Jul-14 | AK | Yakutat | Yakutat | 4/4663 | 05/20/14 | LOC/DME BC RWY 29, Amdt 7A.
24-Jul-14 | AK | Yakutat | Yakutat | 4/4665 | 05/20/14 | VOR/DME RWY 29, Amdt 4A.
24-Jul-14 | AK | Yakutat | Yakutat | 4/4667 | 05/20/14 | ILS OR LOC/DME RWY 11, Amdt 3.
24-Jul-14 | AK | Yakutat | Yakutat | 4/4668 | 05/20/14 | VOR/DME RWY 11, Amdt 3.
24-Jul-14 | AK | Yakutat | Yakutat | 4/4669 | 05/20/14 | RNAV (GPS) RWY 2, Amdt 3.
24-Jul-14 | OR | Portland | Portland Intl | 4/4726 | 05/28/14 | RNAV (RNP) Z RWY 28R, Amdt 1.
24-Jul-14 | CA | Oakland | Metropolitan Oakland Intl | 4/4834 | 05/29/14 | RNAV (GPS) Y RWY 28L, Amdt 3.
24-Jul-14 | CA | Oakland | Metropolitan Oakland Intl | 4/4837 | 05/29/14 | VOR/DME RWY 28L, Amdt 12.
24-Jul-14 | CA | Oakland | Metropolitan Oakland Intl | 4/4838 | 05/29/14 | ILS OR LOC RWY 30, Amdt 27.
24-Jul-14 | CA | Oakland | Metropolitan Oakland Intl | 4/4839 | 05/29/14 | RNAV (RNP) Z RWY 30, Amdt 1A.
24-Jul-14 | CA | Oakland | Metropolitan Oakland Intl | 4/4852 | 05/29/14 | RNAV (GPS) Y RWY 30, Amdt 3.
24-Jul-14 | CA | Oakland | Metropolitan Oakland Intl | 4/4885 | 05/29/14 | RNAV (RNP) Z RWY 12, Amdt 1A.
24-Jul-14 | CA | Oakland | Metropolitan Oakland Intl | 4/4886 | 05/29/14 | ILS OR LOC RWY 12, Amdt 7.
24-Jul-14 | CA | Oakland | Metropolitan Oakland Intl | 4/4887 | 05/29/14 | RNAV (GPS) RWY 10L, Amdt 1.
24-Jul-14 | CA | Oakland | Metropolitan Oakland Intl | 4/4888 | 05/29/14 | RNAV (GPS) Y RWY 28R, Amdt 2A.
24-Jul-14 | CA | Oakland | Metropolitan Oakland Intl | 4/4889 | 05/29/14 | RNAV (RNP) Z RWY 28R, Amdt 1A.
24-Jul-14 | CA | Oakland | Metropolitan Oakland Intl | 4/4890 | 05/29/14 | ILS OR LOC/DME RWY 28R, Amdt 36.
24-Jul-14 | AK | Unalakleet | Unalakleet | 4/4897 | 05/28/14 | VOR/DME D, Amdt 5.
24-Jul-14 | AK | Unalakleet | Unalakleet | 4/4898 | 05/28/14 | LOC/DME RWY 15, Amdt 4.
24-Jul-14 | LA | Baton Rouge | Baton Rouge Metropolitan, Ryan Field | 4/4899 | 06/04/14 | ILS OR LOC RWY 22R, Amdt 11.
24-Jul-14 | LA | Baton Rouge | Baton Rouge Metropolitan, Ryan Field | 4/4901 | 06/04/14 | RNAV (GPS) RWY 22R, Amdt 2.
24-Jul-14 | AK | Unalakleet | Unalakleet | 4/4902 | 05/28/14 | RNAV (GPS) A, Orig.
24-Jul-14 | AK | Unalakleet | Unalakleet | 4/4903 | 05/28/14 | RNAV (GPS) Z RWY 33, Orig.
24-Jul-14 | AK | Unalakleet | Unalakleet | 4/4904 | 05/28/14 | RNAV (GPS) Y RWY 33, Orig-A.
24-Jul-14 | CA | Santa Maria | Santa Maria Pub/Capt G Allan Hancock Fld | 4/4932 | 05/29/14 | ILS OR LOC RWY 12, Amdt 10.
24-Jul-14 | CA | Burbank | Bob Hope | 4/4949 | 05/28/14 | RNAV (RNP) Y RWY 8, Orig.
24-Jul-14 | CA | Burbank | Bob Hope | 4/4950 | 05/28/14 | RNAV (GPS) X RWY 8, Orig-D.
24-Jul-14 | ID | Boise | Boise Air Terminal/Gowen Fld | 4/5023 | 05/20/14 | VOR/DME OR TACAN RWY 10L, Amdt 2.
24-Jul-14 | ID | Boise | Boise Air Terminal/Gowen Fld | 4/5028 | 05/20/14 | VOR/DME RWY 10R, Amdt 1.
24-Jul-14 | ID | Boise | Boise Air Terminal/Gowen Fld | 4/5035 | 05/20/14 | RNAV (GPS) Y RWY 28R, Amdt 4A.
24-Jul-14 | GA | Atlanta | Covington Muni | 4/5107 | 05/28/14 | RNAV (GPS) RWY 28, Amdt 1.
24-Jul-14 | GA | Atlanta | Covington Muni | 4/5109 | 05/28/14 | NDB RWY 28, Amdt 3.
24-Jul-14 | NC | Louisburg | Triangle North Executive | 4/5125 | 05/30/14 | ILS OR LOC RWY 5, Amdt 4.
24-Jul-14 | NC | Louisburg | Triangle North Executive | 4/5126 | 05/30/14 | RNAV (GPS) RWY 23, Amdt 1.
24-Jul-14 | NC | Louisburg | Triangle North Executive | 4/5127 | 05/30/14 | RNAV (GPS) RWY 5, Amdt 1.
24-Jul-14 | FL | Leesburg | Leesburg Intl | 4/5183 | 06/02/14 | RNAV (GPS) RWY 3, Amdt 1A.
24-Jul-14 | FL | Leesburg | Leesburg Intl | 4/5185 | 06/02/14 | NDB RWY 31, Amdt 2.
24-Jul-14 | FL | Crystal River | Crystal River | 4/5218 | 06/02/14 | RNAV (GPS) RWY 27, Amdt 1.
24-Jul-14 | FL | Crystal River | Crystal River | 4/5219 | 06/02/14 | RNAV (GPS) RWY 9, Amdt 1.
24-Jul-14 | SC | Union | Union County, Troy Shelton Field | 4/5230 | 06/02/14 | NDB RWY 5, Orig-A.
24-Jul-14 | CA | Stockton | Stockton Metropolitan | 4/5243 | 06/04/14 | VOR RWY 29R, Amdt 18D.
24-Jul-14 | CA | Stockton | Stockton Metropolitan | 4/5246 | 06/04/14 | ILS OR LOC RWY 29R, Amdt 20.
24-Jul-14 | NY | Albany | Albany Intl | 4/5502 | 05/30/14 | ILS RWY 1 (SA CAT II), Amdt 11A.
24-Jul-14 | NY | Albany | Albany Intl | 4/5507 | 05/30/14 | RNAV (RNP) Z RWY 1, Orig.
24-Jul-14 | NY | Albany | Albany Intl | 4/5508 | 05/30/14 | RNAV (GPS) Y RWY 19, Amdt 1.
24-Jul-14 | NY | Albany | Albany Intl | 4/5510 | 05/30/14 | RNAV (GPS) Y RWY 1, Amdt 1.
24-Jul-14 | NY | Albany | Albany Intl | 4/5512 | 05/30/14 | RNAV (RNP) Z RWY 19, Orig.
24-Jul-14 | NY | Albany | Albany Intl | 4/5513 | 05/30/14 | ILS OR LOC RWY 1, Amdt 11A.
24-Jul-14 | NY | Albany | Albany Intl | 4/5518 | 05/30/14 | ILS OR LOC RWY 19, Amdt 23.
24-Jul-14 | CA | Palmdale | Palmdale USAF Plant 42 | 4/5657 | 05/20/14 | RNAV (GPS) RWY 25, Amdt 1.
24-Jul-14 | CA | Palmdale | Palmdale USAF Plant 42 | 4/5658 | 05/20/14 | ILS OR LOC RWY 25, Amdt 9.
24-Jul-14 | CA | Oroville | Oroville Muni | 4/5663 | 05/28/14 | RNAV (GPS) RWY 2, Orig-A.
24-Jul-14 | CA | Fresno | Fresno Yosemite Intl | 4/6072 | 05/30/14 | ILS OR LOC/DME RWY 29R, Amdt 38.
24-Jul-14 | FL | Bonifay | Tri-County | 4/6116 | 06/04/14 | RNAV (GPS) RWY 19, Orig.
24-Jul-14 | AK | Mcgrath | Mc Grath | 4/6276 | 05/19/14 | Takeoff Minimums and Obstacle DP, Amdt 2A.
24-Jul-14 | UT | Salt Lake City | Salt Lake City Intl | 4/6279 | 05/29/14 | RNAV (GPS) RWY 35, Amdt 2.
24-Jul-14 | UT | Salt Lake City | Salt Lake City Intl | 4/6281 | 05/29/14 | RNAV (GPS) RWY 34R, Amdt 1.
24-Jul-14 | UT | Salt Lake City | Salt Lake City Intl | 4/6282 | 05/29/14 | ILS OR LOC RWY 34R, Amdt 4.
24-Jul-14 | UT | Salt Lake City | Salt Lake City Intl | 4/6284 | 05/29/14 | ILS RWY 34R (SA CAT I), Amdt 4.
24-Jul-14 | UT | Salt Lake City | Salt Lake City Intl | 4/6285 | 05/29/14 | ILS RWY 34R (CAT II & CAT III), Amdt 4.
24-Jul-14 | UT | Salt Lake City | Salt Lake City Intl | 4/6286 | 05/29/14 | ILS RWY 34L (SA CAT I), Amdt 3.
24-Jul-14 | UT | Salt Lake City | Salt Lake City Intl | 4/6287 | 05/29/14 | ILS RWY 34L (CAT II & CAT III), Amdt 3.
24-Jul-14 | UT | Salt Lake City | Salt Lake City Intl | 4/6288 | 05/29/14 | ILS OR LOC RWY 34L, Amdt 3.
24-Jul-14 | UT | Salt Lake City | Salt Lake City Intl | 4/6289 | 05/29/14 | RNAV (GPS) RWY 34L, Amdt 1.
24-Jul-14 | UT | Salt Lake City | Salt Lake City Intl | 4/6290 | 05/29/14 | LDA/DME RWY 35, Orig-A.
24-Jul-14 | WY | Torrington | Torrington Muni | 4/6384 | 06/03/14 | GPS RWY 28, Orig-B.
24-Jul-14 | WY | Torrington | Torrington Muni | 4/6385 | 06/03/14 | GPS RWY 10, Orig-B.
24-Jul-14 | WY | Torrington | Torrington Muni | 4/6386 | 06/03/14 | NDB RWY 28, Amdt 2.
24-Jul-14 | WY | Torrington | Torrington Muni | 4/6387 | 06/03/14 | NDB RWY 10, Amdt 2.
24-Jul-14 | MT | Great Falls | Great Falls Intl | 4/6554 | 06/02/14 | ILS OR LOC/DME RWY 3, ILS RWY 3 (SA CAT I), ILS RWY 3 (CAT II & III), Amdt 5A.
24-Jul-14 | MT | Great Falls | Great Falls Intl | 4/6556 | 06/02/14 | RNAV (RNP) Z RWY 3, Orig-A.
24-Jul-14 | MT | Great Falls | Great Falls Intl | 4/6574 | 06/02/14 | RNAV (GPS) Y RWY 3, Amdt 3.
24-Jul-14 | MT | Great Falls | Great Falls Intl | 4/6579 | 06/02/14 | RNAV (GPS) Y RWY 21, Orig.
24-Jul-14 | MT | Great Falls | Great Falls Intl | 4/6580 | 06/02/14 | RNAV (RNP) Z RWY 21, Orig.
24-Jul-14 | CA | Los Angeles | Los Angeles Intl | 4/6582 | 05/29/14 | ILS OR LOC RWY 7L, Amdt 7B.
24-Jul-14 | CA | Los Angeles | Los Angeles Intl | 4/6583 | 05/29/14 | ILS OR LOC RWY 6L, Amdt 12B.
24-Jul-14 | CA | Los Angeles | Los Angeles Intl | 4/6585 | 05/29/14 | RNAV (GPS) RWY 25R, Amdt 2A.
24-Jul-14 | CA | Los Angeles | Los Angeles Intl | 4/6586 | 05/29/14 | ILS OR LOC RWY 25R, Amdt 17B.
24-Jul-14 | CA | Los Angeles | Los Angeles Intl | 4/6587 | 05/29/14 | ILS OR LOC RWY 25L, Amdt 12B.
24-Jul-14 | CA | Los Angeles | Los Angeles Intl | 4/6592 | 05/29/14 | ILS OR LOC RWY 24R, Amdt 24B.
24-Jul-14 | CA | Los Angeles | Los Angeles Intl | 4/6593 | 05/29/14 | RNAV (GPS) Y RWY 25L, Amdt 3A.
24-Jul-14 | CA | Los Angeles | Los Angeles Intl | 4/6594 | 05/29/14 | ILS OR LOC RWY 6R, Amdt 17B.
24-Jul-14 | CA | Los Angeles | Los Angeles Intl | 4/6597 | 05/29/14 | ILS OR LOC RWY 7R, Amdt 6C.
24-Jul-14 | CA | Los Angeles | Los Angeles Intl | 4/6598 | 05/29/14 | ILS OR LOC RWY 24L, Amdt 26A.
24-Jul-14 | CA | Los Angeles | Los Angeles Intl | 4/6599 | 05/29/14 | RNAV (GPS) Y RWY 24L, Amdt 2A.
24-Jul-14 | CA | Los Angeles | Los Angeles Intl | 4/6600 | 05/29/14 | RNAV (RNP) Z RWY 24L, Amdt 1B.
24-Jul-14 | CA | Los Angeles | Los Angeles Intl | 4/6601 | 05/29/14 | RNAV (RNP) Z RWY 25L, Amdt 1A.
24-Jul-14 | CA | Los Angeles | Los Angeles Intl | 4/6602 | 05/29/14 | ILS RWY 25L (CAT II & CAT III), Amdt 12B.
24-Jul-14 | SC | Union | Union County, Troy Shelton Field | 4/6627 | 06/02/14 | RNAV (GPS) RWY 23, Orig.
24-Jul-14 | AL | Marion | Vaiden Field | 4/6637 | 06/02/14 | RNAV (GPS) RWY 16, Amdt 1.
24-Jul-14 | AK | Cordova | Merle K (Mudhole) Smith | 4/6649 | 05/28/14 | RNAV (GPS) RWY 27, Amdt 2.
24-Jul-14 | AK | Cordova | Merle K (Mudhole) Smith | 4/6650 | 05/28/14 | ILS OR LOC/DME RWY 27, Amdt 11.
24-Jul-14 | FL | Merritt Island | Merritt Island | 4/6651 | 06/02/14 | RNAV (GPS) RWY 11, Amdt 1A.
24-Jul-14 | AZ | Phoenix | Phoenix-Mesa Gateway | 4/6665 | 05/29/14 | RNAV (GPS) Y RWY 30C, Amdt 1.
24-Jul-14 | AZ | Phoenix | Phoenix-Mesa Gateway | 4/6666 | 05/29/14 | RNAV (RNP) Z RWY 30C, Orig.
24-Jul-14 | AZ | Phoenix | Phoenix-Mesa Gateway | 4/6667 | 05/29/14 | RNAV (GPS) RWY 12R, Amdt 1.
24-Jul-14 | AZ | Phoenix | Phoenix-Mesa Gateway | 4/6668 | 05/29/14 | RNAV (GPS) RWY 30L, Amdt 1.
24-Jul-14 | NC | Wadesboro | Anson County—Jeff Cloud Field | 4/6737 | 05/28/14 | ILS OR LOC RWY 34, Orig-A.
24-Jul-14 | NC | Wadesboro | Anson County—Jeff Cloud Field | 4/6739 | 05/28/14 | RNAV (GPS) RWY 34, Amdt 2.
24-Jul-14 | NC | Wadesboro | Anson County—Jeff Cloud Field | 4/6741 | 05/28/14 | RNAV (GPS) RWY 16, Amdt 1.
24-Jul-14 | KY | Mount Sterling | Mount Sterling-Montgomery County | 4/6820 | 05/28/14 | NDB RWY 3, Amdt 2.
24-Jul-14 | KY | Mount Sterling | Mount Sterling-Montgomery County | 4/6821 | 05/28/14 | NDB RWY 21, Amdt 2A.
24-Jul-14 | KY | Mount Sterling | Mount Sterling-Montgomery County | 4/6822 | 05/28/14 | RNAV (GPS) RWY 21, Orig.
24-Jul-14 | KY | Mount Sterling | Mount Sterling-Montgomery County | 4/6823 | 05/28/14 | RNAV (GPS) RWY 3, Orig.
24-Jul-14 | WA | Pasco | Tri-Cities | 4/6862 | 05/22/14 | RNAV (RNP) Z RWY 21R, Orig-A.
24-Jul-14 | WA | Pasco | Tri-Cities | 4/6863 | 05/22/14 | RNAV (RNP) Z RWY 12, Orig.
24-Jul-14 | CA | Fresno | Fresno Yosemite Intl | 4/6864 | 05/30/14 | LOC RWY 11L, Amdt 2A.
24-Jul-14 | WA | Pasco | Tri-Cities | 4/6865 | 05/22/14 | RNAV (RNP) Z RWY 3L, Orig-A.
24-Jul-14 | AK | Sitka | Sitka Rocky Gutierrez | 4/6872 | 05/28/14 | LDA/DME RWY 11, Amdt 15.
24-Jul-14 | AK | Sitka | Sitka Rocky Gutierrez | 4/6876 | 05/28/14 | RNAV (GPS) RWY 11, Amdt 1.
24-Jul-14 | WA | Pasco | Tri-Cities | 4/6883 | 05/22/14 | RNAV (RNP) Z RWY 30, Orig-A.
24-Jul-14 | WA | Seattle | Boeing Field/King County Intl | 4/6968 | 06/04/14 | LOC/DME RWY 13R, Amdt 2.
24-Jul-14 | WA | Spokane | Spokane Intl | 4/7004 | 05/29/14 | ILS OR LOC RWY 3, ILS RWY 3 (SA CAT I), ILS RWY 3 (CAT II & CAT III), Amdt 6A.
24-Jul-14 | WA | Spokane | Spokane Intl | 4/7015 | 05/29/14 | ILS RWY 21 (CAT II & CAT III), Amdt 23A.
24-Jul-14 | WA | Spokane | Spokane Intl | 4/7018 | 05/29/14 | ILS RWY 21 (SA CAT I), Amdt 23A.
24-Jul-14 | WA | Spokane | Spokane Intl | 4/7019 | 05/29/14 | ILS OR LOC/DME RWY 21, Amdt 23A.
24-Jul-14 | CO | Walsenburg | Spanish Peaks Airfield | 4/7024 | 06/03/14 | RNAV (GPS) RWY 27, Amdt 1.
24-Jul-14 | WA | Seattle | Boeing Field/King County Intl | 4/7026 | 06/04/14 | ILS RWY 13R, Amdt 30.
24-Jul-14 | CO | Walsenburg | Spanish Peaks Airfield | 4/7028 | 06/03/14 | RNAV (GPS) RWY 9, Amdt 1.
24-Jul-14 | WA | Spokane | Spokane Intl | 4/7030 | 05/29/14 | RNAV (GPS) Y RWY 3, Amdt 2A.
24-Jul-14 | WA | Spokane | Spokane Intl | 4/7035 | 05/29/14 | RNAV (RNP) Z RWY 21, Amdt 1.
24-Jul-14 | WA | Spokane | Spokane Intl | 4/7081 | 05/29/14 | RNAV (GPS) Y RWY 21, Amdt 2.
24-Jul-14 | AK | Anchorage | Ted Stevens Anchorage Intl | 4/7089 | 05/29/14 | RNAV (GPS) RWY 15, Amdt 2.
24-Jul-14 | AK | Anchorage | Ted Stevens Anchorage Intl | 4/7090 | 05/29/14 | ILS RWY 15, Amdt 6.
24-Jul-14 | AK | Anchorage | Ted Stevens Anchorage Intl | 4/7095 | 05/29/14 | RNAV (GPS) RWY 7R, Amdt 4.
24-Jul-14 | AK | Anchorage | Ted Stevens Anchorage Intl | 4/7096 | 05/29/14 | ILS OR LOC/DME RWY 7R, Amdt 3.
24-Jul-14 | AK | Anchorage | Ted Stevens Anchorage Intl | 4/7107 | 05/29/14 | RNAV (GPS) RWY 7L, Amdt 2A.
24-Jul-14 | AK | Anchorage | Ted Stevens Anchorage Intl | 4/7108 | 05/29/14 | ILS RWY 7R (SA CAT I), Amdt 3.
24-Jul-14 | AK | Anchorage | Ted Stevens Anchorage Intl | 4/7109 | 05/29/14 | ILS OR LOC/DME RWY 7L, Amdt 3.
24-Jul-14 | AK | Anchorage | Ted Stevens Anchorage Intl | 4/7113 | 05/29/14 | ILS RWY 7R (CAT II & III), Amdt 3.
24-Jul-14 | AK | Anchorage | Ted Stevens Anchorage Intl | 4/7114 | 05/29/14 | ILS RWY 7L (SA CAT I & II), Amdt 3.
24-Jul-14 | CA | Salinas | Salinas Muni | 4/7158 | 06/03/14 | ILS RWY 31, Amdt 5D.
24-Jul-14 | WA | Everett | Snohomish County (Paine Fld) | 4/7265 | 05/29/14 | RNAV (GPS) RWY 34L, Amdt 1.
24-Jul-14 | WA | Everett | Snohomish County (Paine Fld) | 4/7266 | 05/29/14 | RNAV (GPS) Y RWY 16R, Amdt 1.
24-Jul-14 | WA | Everett | Snohomish County (Paine Fld) | 4/7267 | 05/29/14 | RNAV (GPS) Z RWY 16R, Orig.
24-Jul-14 | WA | Everett | Snohomish County (Paine Fld) | 4/7269 | 05/29/14 | ILS OR LOC/DME Y RWY 16R, Amdt 22.
24-Jul-14 | WA | Everett | Snohomish County (Paine Fld) | 4/7270 | 05/29/14 | ILS Z RWY 16R (CAT II), Orig.
24-Jul-14 | GA | Columbus | Columbus | 4/7381 | 06/04/14 | ILS OR LOC RWY 6, Amdt 25A.
24-Jul-14 | AK | Scammon Bay | Scammon Bay | 4/7469 | 06/02/14 | RNAV (GPS) RWY 28, Amdt 1.
24-Jul-14 | SC | Florence | Florence Rgnl | 4/7548 | 06/04/14 | RNAV (GPS) RWY 19, Orig.
24-Jul-14 | SC | Florence | Florence Rgnl | 4/7549 | 06/04/14 | VOR OR TACAN A, Amdt 6.
24-Jul-14 | SC | Florence | Florence Rgnl | 4/7550 | 06/04/14 | RNAV (GPS) RWY 27, Orig.
24-Jul-14 | SC | Florence | Florence Rgnl | 4/7551 | 06/04/14 | RNAV (GPS) RWY 1, Orig.
24-Jul-14 | SC | Florence | Florence Rgnl | 4/7552 | 06/04/14 | ILS OR LOC RWY 9, Amdt 12.
24-Jul-14 | SC | Rock Hill | Rock Hill/York Co/Bryant Field | 4/7599 | 05/30/14 | Takeoff Minimums and Obstacle DP, Amdt 1.
24-Jul-14 | CA | Santa Maria | Santa Maria Pub/Capt G Allan Hancock Fld | 4/7639 | 05/29/14 | RNAV (GPS) RWY 12, Amdt 1.
24-Jul-14 | CA | Santa Maria | Santa Maria Pub/Capt G Allan Hancock Fld | 4/7641 | 05/29/14 | VOR RWY 12, Amdt 15.
24-Jul-14 | KY | Monticello | Wayne County | 4/7810 | 05/28/14 | RNAV (GPS) RWY 21, Orig.
24-Jul-14 | KY | Monticello | Wayne County | 4/7811 | 05/28/14 | RNAV (GPS) RWY 3, Orig.
24-Jul-14 | GA | Canton | Cherokee County | 4/7819 | 06/02/14 | RNAV (GPS) RWY 23, Amdt 1.
24-Jul-14 | GA | Canton | Cherokee County | 4/7821 | 06/02/14 | RNAV (GPS) RWY 5, Amdt 1.
24-Jul-14 | GA | Canton | Cherokee County | 4/7822 | 06/02/14 | NDB RWY 5, Amdt 4
24-Jul-14 | PA | York | York | 4/7936 | 05/22/14 | RNAV (GPS) RWY 35, Amdt 1A.
24-Jul-14 | PA | York | York | 4/7937 | 05/22/14 | RNAV (GPS) RWY 17, Amdt 2A.
24-Jul-14 | NY | Fulton | Oswego County | 4/7946 | 05/22/14 | RNAV (GPS) RWY 33, Orig-A.
24-Jul-14 | NY | Fulton | Oswego County | 4/7947 | 05/22/14 | ILS OR LOC RWY 33, Amdt 1A.
24-Jul-14 | WY | Buffalo | Johnson County | 4/8236 | 05/20/14 | VOR/DME RWY 31, Amdt 6.
24-Jul-14 | WY | Buffalo | Johnson County | 4/8237 | 05/20/14 | RNAV (GPS) RWY 31, Amdt 1.
24-Jul-14 | MA | Hopedale | Hopedale Industrial Park | 4/8589 | 05/22/14 | RNAV (GPS) A, Orig.
24-Jul-14 | AZ | Springerville | Springerville Muni | 4/8714 | 05/30/14 | RNAV (GPS) RWY 21, Amdt 1.
24-Jul-14 | KY | Tompkinsville | Tompkinsville-Monroe County | 4/8883 | 05/28/14 | RNAV (GPS) RWY 4, Amdt 1.
24-Jul-14 | CO | Montrose | Montrose Rgnl | 4/8917 | 06/03/14 | ILS OR LOC/DME RWY 17, Amdt 2B.
24-Jul-14 | HI | Kamuela | Waimea-Kohala | 4/8918 | 05/28/14 | RNAV (GPS) RWY 4, Amdt 1.
24-Jul-14 | HI | Kamuela | Waimea-Kohala | 4/8919 | 05/28/14 | VOR/DME RWY 4, Amdt 1.
24-Jul-14 | CA | Brawley | Brawley Muni | 4/8991 | 05/30/14 | VOR/DME A, Amdt 1A.
24-Jul-14 | CA | Brawley | Brawley Muni | 4/8997 | 05/30/14 | VOR/DME B, Amdt 2A.
24-Jul-14 | FL | Brooksville | Hernando County | 4/9192 | 05/19/14 | Takeoff Minimums and Obstacle DP, Orig.
24-Jul-14 | FL | Brooksville | Hernando County | 4/9193 | 05/19/14 | ILS OR LOC RWY 9, Amdt 2D.
24-Jul-14 | FL | Brooksville | Hernando County | 4/9197 | 05/19/14 | RNAV (GPS) RWY 9, Amdt 1B.
24-Jul-14 | FL | Brooksville | Hernando County | 4/9200 | 05/19/14 | RNAV (GPS) RWY 21, Amdt 1C.
24-Jul-14 | FL | Brooksville | Hernando County | 4/9211 | 05/19/14 | RNAV (GPS) RWY 3, Amdt 1B.
24-Jul-14 | FL | Brooksville | Hernando County | 4/9212 | 05/19/14 | RNAV (GPS) RWY 27, Amdt 1B.
24-Jul-14 | CO | Denver | Denver Intl | 4/9225 | 05/30/14 | RNAV (GPS) Y RWY 17R, Amdt 1.
24-Jul-14 | AZ | Grand Canyon | Valle | 4/9228 | 05/30/14 | GPS RWY 1, Orig-A.
24-Jul-14 | AZ | Grand Canyon | Valle | 4/9230 | 05/30/14 | GPS RWY 19, Orig.
24-Jul-14 | AL | Demopolis | Demopolis Muni | 4/9265 | 05/19/14 | Takeoff Minimums and Obstacle DP, Amdt 1.
24-Jul-14 | AL | Demopolis | Demopolis Muni | 4/9266 | 05/19/14 | RNAV (GPS) RWY 22, Orig.
24-Jul-14 | AL | Demopolis | Demopolis Muni | 4/9267 | 05/19/14 | RNAV (GPS) RWY 4, Orig.
24-Jul-14 | NY | Williamson/Sodus | Williamson-Sodus | 4/9537 | 05/19/14 | RNAV (GPS) RWY 10, Amdt 1A.
24-Jul-14 | WA | Port Angeles | William R Fairchild Intl | 4/9538 | 05/19/14 | RNAV (GPS) RWY 8, Orig-A.
24-Jul-14 | WA | Port Angeles | William R Fairchild Intl | 4/9539 | 05/19/14 | ILS OR LOC RWY 8, Amdt 2A.
24-Jul-14 | WA | Port Angeles | William R Fairchild Intl | 4/9540 | 05/19/14 | RNAV (GPS) RWY 26, Orig.
24-Jul-14 | NY | Potsdam | Potsdam Muni/Damon Fld/ | 4/9599 | 05/30/14 | NDB RWY 24, Amdt 5.
24-Jul-14 | NJ | Newark | Newark Liberty Intl | 4/9603 | 05/30/14 | ILS OR LOC RWY 22R, Amdt 6.
24-Jul-14 | FL | Fort Pierce | St Lucie County Intl | 4/9685 | 06/02/14 | ILS OR LOC RWY 10R, Amdt 4.
24-Jul-14 | FL | Fort Pierce | St Lucie County Intl | 4/9686 | 06/02/14 | RNAV (GPS) RWY 10R, Amdt 2.
24-Jul-14 | MT | Roundup | Roundup | 4/9694 | 05/29/14 | RNAV (GPS) RWY 25, Orig.
24-Jul-14 | MT | Roundup | Roundup | 4/9695 | 05/29/14 | RNAV (GPS) RWY 7, Orig.
24-Jul-14 | MT | Dillon | Dillon | 4/9744 | 05/20/14 | RNAV (GPS) RWY 17, Amdt 1.
24-Jul-14 | VA | Clarksville | Lake Country Regional | 4/9751 | 06/02/14 | RNAV (GPS) RWY 22, Orig.
24-Jul-14 | MT | Ronan | Ronan | 4/9796 | 06/03/14 | RNAV (GPS) RWY 34, Amdt 1.
24-Jul-14 | MT | Ronan | Ronan | 4/9817 | 06/03/14 | RNAV (GPS) RWY 16, Amdt 1.
24-Jul-14 | AK | Tatitlek | Tatitlek | 4/9931 | 05/20/14 | RNAV (GPS) RWY 31, Orig-A.

[FR Doc. 2014-15917 Filed 7-10-14; 8:45 am]

BILLING CODE 4910-13-P